DEPARTMENT OF HOUSING AND URBAN DEVELOPMENT

[Docket No. FR-5376-N-85]

Notice of Submission of Proposed Information Collection to OMB; Emergency Comment Request; Choice Neighborhoods

AGENCY: Office of the Chief Information Officer, HUD.

ACTION: Notice of proposed information collection.

SUMMARY: The proposed information collection requirement described below has been submitted to the Office of Management and Budget (OMB) for emergency review and approval, as required by the Paperwork Reduction Act of 1995 (44 U.S.C. Chapter 35, as amended). The Department is soliciting public comments on the subject proposal, to assure better understanding of the reporting requirements and consistency in the submission of data.

DATES: Comments Due Date: September 2, 2010.

ADDRESSES: Interested persons are invited to submit comments regarding this proposal. Comments must be received within seven (7) days from the date of this Notice. Comments should refer to the proposal by name/or OMB approval number and should be sent to: HUD Desk Officer, Office of Management and Budget, New Executive Office Building, Washington, DC 20503; e-mail: OIRA_Submission @omb.eop.gov; fax: (202) 395-5806.

FOR FURTHER INFORMATION CONTACT: Leroy McKinney, Jr., Departmental Reports Management Officer, QDAM, Department of Housing and Urban Development, 451 7th Street, SW., Room 4178, Washington, DC 20410-5000; telephone 202-402-8048, (this is not a toll-free number) or email Mr. McKinney at Leroy.McKinneyJr@hud.gov for a copy of the proposed forms, or other available information. Copies of available documents submitted to OMB may be obtained from Mr. McKinney.

SUPPLEMENTARY INFORMATION: This Notice informs the public that the U.S. Department of Housing and Urban Development (HUD) has submitted to OMB, for emergency processing, a proposed information collection that supports the Choice Neighborhoods Notice of Funding Availability (NOFA).

Title of Proposed Notice: Choice Neighborhoods.

Description of Information Collection: This is a new information collection. The Department of Housing and Urban Development Appropriations Act, 2010 (Pub. L. 111-117, enacted on December 16, 2009) permits the HUD Secretary to use up to $65,000,000 of the HOPE VI appropriations for a Choice Neighborhoods Initiative demonstration. With FY 2010 funding, the Choice Neighborhoods Initiative is a demonstration program under section 24 of the U.S. Housing Act of 1937, as amended (42 U.S.C. 1437v). Thus, except as otherwise specified in the appropriations act, the HOPE VI program requirements and selection criteria will apply to Choice Neighborhoods grants for FY 2010. In preparation for the competitive process to award funding, HUD posted on its Web site a pre-notice to help potential applicants prepare for the application process. The pre-notice sets forth the core goals of the initiative, identifies key program elements and activities, and outlines the framework of the competition HUD will use to award FY 2010 funding. The actual Notice of Funding Availability (NOFA) will contain the selection criteria for awarding Choice Neighborhoods grants and specific requirements that will apply to selected grantees.

Building upon the successes achieved and the lessons learned from the HOPE VI program, Choice Neighborhoods will employ a comprehensive approach to community development centered on housing transformation. The program aims to transform neighborhoods of poverty into viable mixed-income neighborhoods with access to economic opportunities by revitalizing severely distressed public and assisted housing and investing and leveraging investments in well-functioning services, effective schools and education programs, public assets, public transportation, and improved access to jobs. Choice Neighborhoods grants will primarily fund the transformation of public and/or HUD-assisted housing developments through preservation, rehabilitation, and management improvements as well as demolition and new construction. In addition, these funds can be used on a limited basis (and combined with other funding) for improvements to the surrounding community, public services, facilities, assets and supportive services. Choice Neighborhoods grant funds are intended to catalyze other investments that will be directed toward necessary community improvements. The leveraging of other sources will be necessary to address other key neighborhood assets and achieve the program's core goals. This may include resources from other HUD programs, such as the Community Development Block Grant and Section 108 Loan Guarantee programs, as well as from other Federal, State, local and private programs or entities. HUD is working with other Federal agencies to integrate Choice Neighborhoods with other Federal place-based programs.

OMB Control Number: 2577-Pending.

Agency Form Number: 2577-Pending.

Members of Affected Public: Local governments, public housing authorities, nonprofits, and for-project developers that apply jointly with a public entity.

Estimation of the total numbers of hours needed to prepare the information collection including number of respondents, frequency of responses, and hours of responses: For Choice Neighborhoods Round 1: Burden hours per response total 58.09 for Implementation Grant applications, and 35.59 for Planning Grant applications. For FY 2010, applicants may only submit an Implementation Grant application or a Planning Grant application, not both. The total burden hours, estimating 100 respondents for each grant application type, is 5,809 for Implementation Grants, and 3,559 for Planning Grants.

Status of the proposed information collection: This is a new information Collection.

Authority: The Paperwork Reduction Act of 1995, 44 U.S.C. Chapter 35, as amended.

Dated: August 19, 2010.
Leroy McKinney, Jr.,
Departmental Reports Management Officer, Office of the Chief Information Officer.

[FR Doc. 2010-21198 Filed 8-25-10; 8:45 am]

BILLING CODE 4210-67-P